DEPARTMENT OF TRANSPORTATION

Office of the Secretary

Notice of Applications for Certificates of Public Convenience and Necessity and Foreign Air Carrier Permits Filed Under Subpart B (Formerly Subpart Q) During the Week Ending October 10, 2009

The following Applications for: Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0249.

Date Filed: October 8, 2009.

Due Date for Answers, Conforming Applications, or Motion to Modify Scope: October 29, 2009.

Description: Application of Gulf Coast Airways, Inc. requesting issuance of commuter air carrier authority to enable it to engage in interstate and foreign scheduled air transportation operations utilizing small aircraft.

Renee V. Wright,
Program Manager, Docket Operations, Federal Register Liaison.

[FR Doc. E9-26068 Filed 10-28-09; 8:45 am]

BILLING CODE 4910-9X-P